DEPARTMENT OF THE INTERIOR

Bureau of Land Management

[ID 111 1610 DQ 049D DBG071006]

Notice of Availability of Snake River Birds of Prey National Conservation Area Proposed Resource Management Plan and Final Environmental Impact Statement, Idaho

AGENCY: Bureau of Land Management, Interior.

ACTION: Notice of availability.

SUMMARY: In accordance with the National Environmental Policy Act of 1969 (42 U.S.C. 4321 et seq.) and the Federal Land Policy and Management Act of 1976 (43 U.S.C. 1701 et seq.), the Bureau of Land Management (BLM) has prepared a Proposed Resource Management Plan/Final Environmental Impact Statement (PRMP/FEIS) for the Snake River Birds of Prey National Conservation Area (NCA).

DATES: The BLM Planning regulations (43CFR 1610.5-2) state that any person who participated in the planning process and has an interest that may be adversely affected may protest the BLM's Proposed RMP. The protest must be filed within 30 days of the date that the Environmental Protection Agency publishes this Notice of Availability in the Federal Register.

Instructions for filing protests are described in the Dear Reader letter of the NCA PRMP/FEIS and in the SUPPLEMENTARY INFORMATION section of this notice.

FOR FURTHER INFORMATION CONTACT: John Sullivan, NCA Manager, BLM Four Rivers Field Office, 3948 Development Ave., Boise, Idaho 83705, phone 208-384-3300; e-mail address: John_Sullivan@blm.gov.

SUPPLEMENTARY INFORMATION: The NCA encompasses approximately 484,000 acres of public land extending along 81 miles of the Snake River south of Boise, Idaho. The NCA was established on August 4, 1993 by Public Law 103-64 for the purpose of conserving, protecting, and enhancing North America's densest concentration of nesting and migrating raptor populations and habitats, and the natural and environmental resources and values associated with the area.

Key components of the proposed plan include land allocations and management guidance that provide for:

• Reducing further wildfire-related loss of native shrub habitat through aggressive wildfire suppression; however, it is anticipated that about 30,000 additional acres of remnant shrub habitat could potentially be lost to wildfire.

• Restoring 130,000 acres of degraded shrub habitat to stabilize small mammal populations which provide prey for raptors.

• Completing 100,000 acres of fuels management projects to protect the economic and ecological investments made in the habitat restoration program.

• Restricting or modifying currently authorized National Guard military training activities, including the restriction of off-road vehicle maneuver training on 22,300 acres; limiting vehicle maneuver training to non-shrub areas in the remaining maneuver areas to protect remnant shrub communities; and providing 4,100 additional acres to enhance military maneuvers.

• Remove the Area of Critical Environmental Concern (ACEC) designation for the Guffey Butte—Black Butte Archaeological District ACEC to eliminate redundant protective designations. The Guffey Butte—Black Butte Archaeological District ACEC was designated prior to establishment of the NCA in 1993. The protective withdrawal language included in the ACEC designation is redundant with those protections provided by the NCA-enabling Act and the Archaeological District designation and is therefore unneccessary.

Copies of the NCA Proposed RMP/FEIS have been sent to affected Federal, State, and Local Government agencies and to interested organizations and individuals. Copies of the Proposed RMP/FEIS are available for public inspection at the BLM Boise District Office, 3948 Development Ave., Boise, ID 83705. Interested persons may also view the Proposed RMP/FEIS on the Internet at http://www.id.blm.gov/id/st/en/prop/planning.1.html. Changes were incorporated into the proposed plan based on public comments and internal BLM review of the Draft RMP and Environmental Impact Statement (EIS). Public comments resulted in BLM incorporating in the Proposed Alternative a new utility corridor south of the Snake River to be consistent with proposals being evaluated in the West-Wide Energy Corridor Study EIS. Further, BLM removed from the Proposed Alternative the proposed expansion of the existing shooting management area. No other proposed land use decisions were significantly affected, but comments did result in BLM adding clarifying language to certain sections.

As noted above, instructions for filing protests with the Director of the BLM regarding the Proposed RMP/FEIS may be found at 43 CFR 1610.5-2. E-mail and faxed protests will not be accepted as valid protests unless the protesting party also provides the original letter by either regular or overnight mail postmarked by the close of the protest period. Under these conditions the BLM will consider the e-mail or faxed protest as an advanced copy, and it will receive full consideration. If you wish to provide the BLM with such advance notification, please direct faxed protests to the attention of the BLM Protest Coordinator at (202) 452-5112 and e-mails to Brenda_Hudgens-Williams@blm.gov. All protests, including the follow-up letter (if e-mailing or faxing) must be in writing and mailed to the following address:

Regular mail | Overnight mail
Diretor (210), Attention: Brenda Hudgens-Williams, P.O. Box 66538, Washington, DC 20035. | Director (210), Attention: Brenda Hudgens-Williams, 1620 L Street, NW., Suite 1075, Washington, DC 20036.

Before including your address, phone number, e-mail address, or other personal identifying information in your protest, you should be aware that your entire protest—including your personal identifying information—may be made publicly available at any time. While you can ask us in your protest to withhold your personal identifying information from public review, we cannot guarantee that we will be able to do so.

Following resolution of any protests of the proposed decision, a record of decision will be signed by the BLM Idaho State Director. A notice of availability of the record of decision will be published in the Federal Register and will be made available through local media.

Thomas H. Dyer,
Bureau of Land Management, Idaho State Director.

[FR Doc. E8-3942 Filed 2-28-08; 8:45 am]

BILLING CODE 4310-GG-P